ENVIRONMENTAL PROTECTION AGENCY

40 CFR Part 52

[EPA-R04-OAR-2012-0622; FRL-9770-1]

Approval and Promulgation of Implementation Plans; Georgia: New Source Review—Prevention of Significant Deterioration

AGENCY: Environmental Protection Agency (EPA).

ACTION: Proposed rule; withdrawal.

SUMMARY: EPA is withdrawing a proposed rulemaking published in the Federal Register on January 2, 2013, to approve changes to the Georgia State Implementation Plan (SIP) New Source Review Prevention of Significant Deterioration program for the fine particulate matter standards as a result of the inadvertent publication of an incorrect version of the proposed rulemaking.

DATES: The proposed rule published January 2, 2013, is withdrawn as of January 14, 2013.

FOR FURTHER INFORMATION CONTACT: Twunjala Bradley, Regulatory Development Section, Air Planning Branch, Air, Pesticides and Toxics Management Division, U.S. Environmental Protection Agency, Region 4, 61 Forsyth Street SW., Atlanta, Georgia 30303-8960. Ms. Bradley's telephone number is (404) 562-9352; email address: bradley.twunjala@epa.gov.

SUPPLEMENTARY INFORMATION: On January 2, 2013 (78 FR 45), a proposed rulemaking was published in the Federal Register entitled “Approval and Promulgation of Implementation Plans; Georgia: New Source Review—Prevention of Significant Deterioration” to approve changes to Georgia's SIP-approved regulations entitled “Air Quality Control Rule 391-3-.1.” The proposed rule version published in the Federal Register on January 2, 2013, was an incorrect version and EPA therefore, is now withdrawing its January 2, 2013, proposed rulemaking action. In a separate action, the correct version of EPA's proposed rulemaking related to Georgia's Air Quality Control Rule 391-3-.1 is being provided for public comment. This course of action will promote efficiency, mitigate confusion, and create a new comment period on the future proposed action to approve Georgia's SIP revisions related to Rule 391-3-1 with a proper basis of evaluation.

List of Subjects in 40 CFR Part 52

Environmental protection, Air pollution control, Greenhouse gases, Incorporation by reference, Intergovernmental relations, Nitrogen oxides, Particulate matter, Reporting and recordkeeping requirements.

Dated: January 4, 2013.
A. Stanley Meiburg,
Acting Regional Administrator, Region 4.

[FR Doc. 2013-00582 Filed 1-11-13; 8:45 am]

BILLING CODE 6560-50-P